NATIONAL ARCHIVES AND RECORDS ADMINISTRATION

[NARA-2016-001]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by November 16, 2015. Once NARA appraises the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road, College Park, MD 20740-6001.

Email: request.schedule@nara.gov.

FAX: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road, College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

No agencies may destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2014-0001, 3 items, 3 temporary items). Records related to a crop disaster assistance program, including applications, payment documents, spot check reports, correspondence, and other related documentation.

2. Department of the Army, Agency-wide (DAA-AU-2015-0031, 1 item, 1 temporary item). Master files of an electronic information system that contains aviation maintenance records relating to component repairs, removals, and installations.

3. Department of the Army, Agency-wide (DAA-AU-2015-0032, 3 items, 3 temporary items). Records related to medical research involving laboratory animal subjects, including protocols and care and treatment files.

4. Department of Commerce, Inspector General Office (DAA-0040-2015-0002, 2 items, 1 temporary item). Working papers for Inspector General reports to Congress. Proposed for permanent retention are the Inspector General reports.

5. Department of Defense, National Geospatial-Intelligence Agency (DAA-0537-2015-0002, 1 item, 1 temporary item). Raw commercial imagery not used in an agency product.

6. Department of Health and Human Services, Indian Health Service (DAA-0513-2015-0009, 2 items, 2 temporary items). Case files for reviewing grant research protocols and records of meetings of the Institutional Review Board.

7. Department of Justice, Bureau of Alcohol, Tobacco, Firearms, and Explosives (DAA-0436-2015-0001, 1 item, 1 temporary item). Internal communication log files.

8. Department of Justice, Federal Bureau of Investigation (DAA-0065-2015-0004, 1 item, 1 temporary item). Master files of an electronic information system used to track requests for information from facial comparison search requests.

9. Department of Justice, Office of Legislative Affairs (DAA-0060-2013-0010, 2 items, 1 temporary item). Copies of bills, reports, testimony, and other correspondence supporting the Department's communications on proposed legislation. Proposed for permanent retention are final position statements.

10. Department of the Navy, United States Marine Corps (DAA-0127-2015-0007, 3 items, 3 temporary items). Master files of an electronic information system used to track and manage drill requirements for the Marine Corps Reserve.

11. Department of the Treasury, Internal Revenue Service (DAA-0058-2015-0003, 6 items, 6 temporary items). Tax practitioner enrollment records including case files, applications, correspondence, and related materials.

12. Commodity Futures Trading Commission, Division of Enforcement (DAA-0180-2015-0003, 1 item, 1 temporary item). Summary information of closed cases.

13. Executive Office of the President, Office of Management and Budget (DAA-0051-2015-0014, 2 items, 2 temporary items). Records of the Office of Information and Regulatory Affairs including documentation related to routine regulatory review and the Paperwork Reduction Act.

14. Federal Communications Commission, Wireline Competition Bureau (DAA-0173-2015-0004, 1 item, 1 temporary item). Filings of proposed changes in depreciation rates from local exchange carriers.

15. Federal Communications Commission, Wireline Competition Bureau (DAA-0173-2015-0007, 1 item, 1 temporary item). Annual survey data of fixed voice and broadband service rates offered to consumers in urban areas.

16. National Archives and Records Administration, Research Services (N2-208-15-1, 5 items, 5 temporary items). Records of the Office of War Information which are fragmentary, duplicative, or low-level in nature. These records were accessioned to the National Archives but lack sufficient historical value to warrant continued preservation.

17. Peace Corps, Office of Strategic Partnerships (DAA-0490-2014-0002, 3 items, 3 temporary items). Records of the Office of Gifts and Grants Management including donor files, marketing materials, and working files.

18. Peace Corps, Agency-wide (DAA-0490-2015-0004, 1 item, 1 temporary item). Documentation related to personal service contracts for workers at overseas posts.

19. United States Commission on International Religious Freedom, Agency-wide (N1-148-15-2, 20 items, 4 temporary items). Records include general program correspondence; Web site content, design, management, and technical operations files; and routine and uncaptioned photographs. Proposed for permanent retention are files documenting the commission's establishment, organization, directives, charters, and policy documents; records of the chairman, commissioners, and executive director; and other records such as reports to Congress, meeting files, publications, news releases, photographs, historically significant litigation case files, and records related to public meetings.

Dated: October 5, 2015.
Laurence Brewer,
Director, National Records Management Program.

[FR Doc. 2015-26300 Filed 10-14-15; 8:45 am]

BILLING CODE 7515-01-P